DEPARTMENT OF ENERGY

Federal Energy Regulatory Commission

[Project No. 2696-033]

Albany Engineering Corporation: Town of Stuyvesant; Notice of Scoping Meetings and Environmental Site Review and Soliciting Scoping Comments

October 16, 2009.

Take notice that the following hydroelectric application has been filed with the Commission and is available for public inspection:

a. Type of application: New Major License.

b. Project No.: 2696-033.

c. Date filed: July 31, 2009.

d. Submitted by: Albany Engineering Corporation and the Town of Stuyvesant.

e. Name of project: Stuyvesant Falls Hydroelectric Project.

f. Location: On Kinderhook Creek (in the Hudson River drainage basin) in the town of Stuyvesant, Columbia County, New York. The project does not occupy any federal lands.

g. Filed pursuant to: Federal Power Act, 16 U.S.C. 791(a)-825(r).

h. Applicant contact: Mr. James A. Besha, P.E., President, Albany Engineering Corporation, 5 Washington Square, Albany, New York 12205; (518) 456-7712.

i. FERC contact: Carolyn Templeton at (202) 502-8785 or carolyn.templeton@ferc.gov.

j. Deadline for filing scoping comments: December 17, 2009.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Stuyvesant Falls Hydroelectric Project is located on Kinderhook Creek in Columbia County, New York. All project features pre-date the license by 80 years, and there were no operational changes or construction when the project was licensed in 1980, backdated to 1965. The Stuyvesant Falls Hydroelectric Project consists of a 13-foot-high, 240-foot-long, masonry gravity dam and stone and concrete intake structure that impounds Kinderhook Creek, forming a 46-acre reservoir with a normal pool elevation of 174.3 feet USGS datum. A Taintor gate and trash sluice is located near the south abutment of the gravity dam. The intake structure is enclosed in a prefabricated steel intake house and carries water from the reservoir to two 7.5-foot-diameter, 2,860-foot-long, riveted-steel pipelines. From the pipelines, water flows into a 25-foot-diameter surge tank. Water is then transported from the surge tank to a brick and steel powerhouse via two 200-foot-long steel penstocks. The powerhouse contains a single 2.8-megawatt horizontal double runner Francis turbine.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via e-mail of new filings and issuances related to this or other pending projects. For assistance, contact FERC Online Support.

n. Scoping Process.

The Commission intends to prepare an Environmental Assessment (EA) on the project in accordance with the National Environmental Policy Act. The EA will consider both site-specific and cumulative environmental impacts and reasonable alternatives to the proposed action.

Scoping Meetings

FERC staff will conduct one daytime scoping meeting and one evening scoping meeting. The daytime scoping meeting will focus on resource agency and non-governmental organization (NGO) concerns, while the evening scoping meeting is primarily for public input. All interested individuals, organizations, and agencies are invited to attend one or both of the meetings, and to assist the staff in identifying the scope of the environmental issues that should be analyzed in the EA. The times and locations of these meetings are as follows:

Evening Scoping Meeting

Date and Time: Monday, November 16, 2009, at 6 p.m.

Location: Stuyvesant Town Hall, 5 Sunset Drive, Stuyvesant, NY 12173.

Phone Number: 518-758-6248.

Daytime Scoping Meeting

Date and Time: Tuesday, November 17, 2009, at 10 a.m.

Location: Stuyvesant Town Hall, 5 Sunset Drive, Stuyvesant, NY 12173.

Phone Number: 518-758-6248.

Copies of the Scoping Document (SD1) outlining the subject areas to be addressed in the EA were distributed to the parties on the Commission's mailing list. Copies of the SD1 will be available at the scoping meeting or may be viewed on the Web at http://www.ferc.gov using the “eLibrary” link [see item (m) above].

Environmental Site Review

The Applicant and FERC staff will conduct a project environmental site review beginning at 1 p.m. (EST) on Monday, November 16, 2009. All interested individuals, organizations, and agencies are invited to attend. All participants should meet at the Stuyvesant Falls Hydroelectric Project powerhouse. All participants are responsible for their own transportation to the site. Please notify Wendy Carey, Albany Engineering Corporation at 518-456-7712, ext. 401 or wendy@albanyengineering.com by November 9, 2009, if you plan to attend the environmental site review. Directions are as follows:

From Albany, take 90E to Exit 12, US-9 toward Hudson. Turn Right onto US-9 S. Stay straight through circular onto NY-9H S. Take slight right onto CR-25 into Stuyvesant Falls. Take right onto CR-25A. Driveway is on the left approximately 500 feet before old bridge.

From Hudson, drive north on 66 to 9H. Go north on 9H to CR-25. Go south on CR-25 into Stuyvesant Falls. Take a right onto CR-25A. Driveway is on the left approximately 500 feet before old bridge.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project. Individuals, organizations, and agencies with environmental expertise and concerns are encouraged to attend the meeting and to assist the staff in defining and clarifying the issues to be addressed in the EA.

Kimberly D. Bose,
Secretary.

[FR Doc. E9-25611 Filed 10-23-09; 8:45 am]

BILLING CODE 6717-01-P